DEPARTMENT OF JUSTICE

Antitrust Division

Notice Pursuant to the National Cooperative Research and Production Act of 1993—International Electronics Manufacturing Initiative

Notice is hereby given that, on November 4, 2008, pursuant to Section 6(a) of the National Cooperative Research and Production Act of 1993, 15 U.S.C. § 4301 et seq. (“the Act”), International Electronics Manufacturing Initiative (“iNEMI”) has filed written notifications simultaneously with the Attorney General and the Federal Trade Commission disclosing changes in its membership. The notifications were filed for the purpose of extending the Act's provisions limiting the recovery of antitrust plaintiffs to actual damages under specified circumstances. Specifically, ASSET InterTech, Inc., Richardson, TX; Corelis, Cerritos, CA; Dell, Inc., Round Rock, TX; Doosan Corp. ElectroMaterials BG, Kyunggi-do, REPUBLIC OF KOREA; Elite Material Co., Ltd., Tao-Yuan Hsien, TAIWAN; Industrial Technology Research Institute (ITRI), Hsinchu, TAIWAN; IST-Integrated Service Technology, Inc., Hsinchu City, TAIWAN; ITEQ Corporation, Taoyuan Hsien, TAIWAN; and Nan Ya Plastics Corporation, Taipei, TAIWAN have been added as parties to this venture.

Also, Analogic, Peabody, MA; Kester, Des Plaines, IL; Parametric Technology Corporation (PTC), Needham, MA; E2open, Redwood City, CA; Dassault Systems, Lowell, MA; and UGS, Milford, MA have withdrawn as parties to this venture.

No other changes have been made in either the membership or planned activity of the group research project. Membership in this group research project remains open, and iNEMI intends to file additional written notifications disclosing all changes in membership.

On June 6, 1996, iNEMI filed its original notification pursuant to Section 6(a) of the Act. The Department of Justice published a notice in the Federal Register pursuant to Section 6(b) of the Act on June 28, 1996 (61 FR 33774).

The last notification was filed with the Department on December 27, 2007. A notice was published in the Federal Register pursuant to Section 6(b) of the Act on February 11, 2008 (73 FR 7762).

Patricia A. Brink,
Deputy Director of Operations, Antitrust Division.

[FR Doc. E8-29295 Filed 12-11-08; 8:45 am]

BILLING CODE 4410-11-M